DEPARTMENT OF HEALTH AND HUMAN SERVICES

Health Resources and Services Administration

Agency Information Collection Activities: Submission to OMB for Review and Approval; Public Comment Request; Rural Public Health Workforce Training Network Program Data Collection

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than June 29, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 594-4394.

SUPPLEMENTARY INFORMATION:

Information Collection Request Title: Rural Public Health Workforce Training Network Program Data Collection—OMB No. 0915-xxxx-NEW.

Abstract: The Rural Public Health Workforce Training Network (RPHWTN) Program Data Collection is authorized by section 330A(f) of the Public Health Service Act (42 U.S.C. 254c(f)). Furthermore, section 2501 of the American Rescue Plan Act of 2021 (ARP, Pub. L. 117-2) provides funding for the Department of Health and Human Services to carry out activities related to expanding and sustaining a public health workforce, including to respond to COVID-19. The RPHWTN program, which is managed by the Federal Office of Rural Health Policy at HRSA, intends to expand public health capacity by supporting health care job development, training, and placement in rural communities. This grant program intends to address the ongoing critical need for trained public health professionals in health care facilities serving rural communities by establishing networks that will develop formal training/certification programs. The long-term objective of this program is to enhance clinical and operational capacity to adequately address population health needs of rural communities negatively impacted by COVID-19, including long COVID-19. The HRSA Office of Planning, Analysis, and Evaluation will work with the Federal Office of Rural Health Policy to design and distribute surveys to RPHWTN grantees and trainees, which will serve as program data collection tools. Grantees will establish networks that support health care job development, training, and placement in rural communities. Trainees are individuals participating in the training programs made possible through the RPHTWN-supported networks established by program grantees. To accomplish RPHWTN program goals, HRSA would like to collect the following type of information from respondents:

• From grantees: training content, count of trainings and attendees, specific strategies in supporting patients with long COVID-19 and behavioral health needs, and trainee retention/completion.

• From trainees: limited demographic information (age, ZIP code, race, and ethnicity), skills needed to fulfill roles in specific tracks selected, skill assessment, professional and/or educational experience, and career goals/intentions.

A 60-day notice was published in the Federal Register on December 9, 2022, vol. 87, No. 236; pp. 75639-75640. There were no public comments.

Need and Proposed Use of the Information: Per OMB memo M-21-20, the ARP provides funding for critical resources to respond to the public health crisis the nation faces resulting from the COVID-19 pandemic. The memo emphasizes the need for a swift government-wide response, underscoring the need to ensure the public's trust in how the federal government implements ARP programs and distributes ARP funding. Accountability and transparency of federal government spending and achieving results are necessary for effective stewardship of these funds. To this end, federal awarding agencies must collect recipient performance reports in a manner that enables the federal government to articulate the outcomes of federal financial assistance to the American people. HRSA seeks to collect performance information that measures progress in achieving program goals and objectives, ensures payment integrity, and demonstrates equity-oriented results—all while minimizing the reporting burden to federal financial assistance recipients. Data from grantees is necessary for understanding programmatic activities supported by this HRSA investment, providing program monitoring and oversight, assessing the sustainability of program-supported activities, and ultimately affording HRSA the insights and ability to make specific, evidence informed policy and program recommendations moving forward. To successfully accomplish the goals of this program in supporting job development and training, it is also crucial that HRSA receives a clear understanding of trainees' existing and needed skillsets, their reception to/feedback about the trainings they receive, and a sense of their potential career trajectories as they pertain to the workforce training tracks specified by HRSA in the program Notice of Funding Opportunity (HRSA-22-117). There are several consequences of the federal government not collecting the data for the RPHWTN program as described herein. These include: (1) the inability to monitor grant activities and therefore inability to ensure sufficient oversight of and accountability for this HRSA investment, (2) a lost opportunity to better understand the workforce capacity-building needs of the rural communities that HRSA serves, and (3) a failure to gather key information that could ultimately lead to more evidence informed policy and program recommendations in the future.

Likely Respondents: Respondents of these surveys will be RPHWTN grantees and trainees.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Type of respondent | Form name | Number of respondents | Number of responses per respondent | Total responses | Average burden per response (hours) | Total burden hours
Grantees | Baseline Survey | 32 | 1 | 32 | 0.25 | 8.00
| Follow-Up Survey | 32 | 2 | 64 | 0.13 | 8.53
| Exit Survey | 32 | 1 | 32 | 0.25 | 8.00
Trainees | Trainee Survey | 500 | 2 | 1,000 | 0.25 | 250.00
Total |  | 596 |  | 1,128 |  | 274.53

Maria G. Button,
Director, Executive Secretariat.

[FR Doc. 2023-11384 Filed 5-26-23; 8:45 am]

BILLING CODE 4165-15-P